DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of November 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a) (2) (A) (increased imports) of Section 222 have been met.

TA-W-57,896; Cranford Woodcarving, Inc., A Subsidiary of McCrorie Group, Plants 1, 4 and 7, On-Site Leased Workers of Express, Hickory, NC, September 2, 2004.

TA-W-58,104; Tecstar, dba MGS Mfg. Group (The), On-Site Leased Workers, Germantown, WI, September 10, 2004.

TA-W-58,120; Bangor Mills, Inc., Stroudsburg, PA, October 7, 2004.

TA-W-58,121; Computernet, Inc., aka Computernet Resource Group, On-Site at Burlington Industries, Hurt, VA, October 10, 2004.

TA-W-58,121A; Computernet, Inc., aka Computernet Resource Group, On-Site at Burlington Industries, Greensboro, NC, October 10, 2004.

TA-W-58,131; Quality Oak Products, Inc., Including On-Site Leased Workers of Labor Specialists, Noble, IL, October 6, 2004.

TA-W-58,145; General Cable, A Subsidiary of General Cable Technologies Corp., Dayville, CT, October 17, 2004.

TA-W-58,181; Stimson Lumber Company, Atlas Division, Coeur d' Alene, ID, October 20, 2004.

TA-W-58,256; T-Time Sportswear, Inc., Hazleton, PA, October 24, 2004.

TA-W-58,357; JB Britches, Inc., San Fernando, CA, November 4, 2004.

TA-W-58,215; Bespak, Inc., Apex, NC, October 25, 2004.

The following certifications have been issued. The requirements of (a)(2)(B) (shift in production) of Section 222 have been met.

TA-W-58,133; Joan Fabrics Corporation, Mastercraft Fabrics LLC, Norwood Yarn Sales, Norwood, NC, October 21, 2005.

TA-W-58,133A; Joan Fabrics Corporation, Mastercraft Fabrics LLC, Norwood Yarn Sales, Troy, NC, October 21, 2005.

TA-W-58,184; Georgia-Pacific Corporation, Consumer Products Division, Green Bay, WI, October 12, 2004.

TA-W-58,190; Meridian Automotive Systems, Inc., Company 21, Grand Rapids, MI, October 21, 2004.

TA-W-58,205; Berliss Bearing Co., Livingston, NJ, September 27, 2004.

TA-W-58,226; Alcan Packaging—Cebal Americas, Division of Alcan, Inc., Cypress, CA, October 28, 2004.

TA-W-58,340; Rolatape Corporation, Including Leased Workers of Humanix, Spokane, WA, November 10, 2004.

The following certification has been issued. The requirement of supplier to a trade certified firm has been met.

None.

The following certification has been issued. The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,137; BNZ Materials, Inc., Zelienople, PA.

TA-W-58,183; Firestone Tube Company, A Subsidiary of Bridgestone, Firestone North America Tire, Russellville, AR.

TA-W-58,207; Fiskars Home Leisure, A Subsidiary of Fiskars Corporation, Opelika, AL.

TA-W-58,268; Simpson Door Company, McCleary Washington Division, McCleary, WA.

TA-W-58,319; Johnco Hosiery, Inc., Fort Payne, AL.

TA-W-58,324; Cherokee Hosiery Mills, Inc., Fort Payne, AL.

The investigation revealed that criteria (a)(2)(A)(I.B.) (Sales or production, or both, did not decline) and (a)(2)(B)(II.B) (No shift in production to a foreign country) have not been met.

TA-W-58,180; Ensign-Bickford Company (The), Trojan Explosives Plant, Booster—Utah Division, Spanish Fork, UT.

The investigation revealed that criteria (a)(2)(A)(I.C.) (increased imports) and (a)(2)(B)(II.B) (No shift in production to a foreign country) have not been met.

TA-W-58,112; IMC Products, Inc., Muskegon, MI.

TA-W-58,135; Snap-Tite Hose, Inc., National Fire Hose Plant, Compton, CA.

The investigation revealed that criteria (a)(2)(A)(I.C.) (Increased imports and (a)(2)(B)(II.C) (has shifted production to a foreign country) have not been met.

TA-W-58,150; Siemens Energy and Automation, Inc., Distribution Products Division, Bellefontaine, OH.

TA-W-58,150A; Siemens Energy and Automation, Inc., Distribution Products Division, Urbana, OH.

The workers firm does not produce an article as required for certification under Section 222 of the Trade Act of 1974.

TA-W-58,121B; Computernet, Inc., aka Computernet Resource Group, On-Site at Burlington Industries, Stonewall, MS.

TA-W-58,127; Alaska Airlines, Inc., Seattle/Tacoma International Airport, Aircraft Mechanics Department, Seattle, WA.

TA-W-58,127A; Alaska Airlines, Inc., Anchorage International Airport, Aircraft Mechanics Department, Anchorage, AK.

TA-W-58,127B; Alaska Airlines, Inc., Metropolitan Oakland International Airport, Aircraft Mechanics Department, Oakland, CA.

TA-W-58,127C; Alaska Airlines, Inc., San Francisco International Airport, Aircraft Mechanics Department, San Francisco, CA.

TA-W-58,127D; Alaska Airlines, Inc., Los Angeles International Airport, Aircraft Mechanics Department, Los Angeles, CA.

TA-W-58,127E; Alaska Airlines, Inc., Juneau International Airport, Aircraft Mechanics Department, Juneau, AK.

TA-W-58,127F; Alaska Airlines, Inc., Grant County International Airport, Aircraft Mechanics Department, Moses Lake, WA.

TA-W-58,127G; Alaska Airlines, Inc., Snohomish County International Airport, Aircraft Mechanics Department, Everett, WA.

TA-W-58,127H; Alaska Airlines, Inc., Will Rogers World Airport, Aircraft Mechanics Department, Oklahoma City, OK.

TA-W-58,127I; Alaska Airlines, Inc., Wiley Post/W. Rogers M. Airport, Aircraft Mechanics Department, Barrow, AK.

TA-W-58,127J; Alaska Airlines, Inc., Fairbanks International Airport, Aircraft Mechanics Department, Fairbanks, AK.

TA-W-58,127K; Alaska Airlines, Inc., Ketchikan International Airport, Aircraft Mechanics Department, Ketchikan, AK.

TA-W-58,127L; Alaska Airlines, Inc., Nome Airport, Aircraft Mechanics Department, Nome, AK.

TA-W-58,127M; Alaska Airlines, Inc., Kotzebue Airport, Aircraft Mechanics Department, Kotzebue, AK.

TA-W-58,127N; Alaska Airlines, Inc., Prudhoe Bay/Deadhorse Airport, Aircraft Mechanics Department, Prudhoe Bay, AK.

TA-W-58,127O; Alaska Airlines, Inc., Sitka Airport, Aircraft Mechanics Department, Stika, AK.

TA-W-58,127P; Alaska Airlines, Inc., Portland International Airport, Aircraft Mechanics Department, Portland, OR.

TA-W-58,127Q; Alaska Airlines, Inc., Phoenix Sky Harbor International Airport, Aircraft Mechanics Department, Phoenix, AZ.

TA-W-58,128; Northwest Airlines, Technical Operations, Facilities Maintenance, and Ground Operations Division, St. Paul, MN.

TA-W-58,128A; Northwest Airlines, Los Angeles International Airport, Los Angeles, CA.

TA-W-58,128AA; Northwest Airlines, George Bush Intercontinental Airport, Huston, TX.

TA-W-58,128B; Northwest Airlines, San Diego/Lindberg Field International Airport, San Diego, CA.

TA-W-58,128BB; Northwest Airlines, Tampa/St. Petersburg International Airport, Tampa, FL.

TA-W-58,128C; Northwest Airlines, Billings Airport, Billings, MT.

TA-W-58,128CC; Northwest Airlines, McCarran International Airport, Las Vegas, NV.

TA-W-58,128D; Northwest Airlines, Anchorage International Airport, Anchorage, AK.

TA-W-58,128DD; Northwest Airlines, Northern Kentucky Airport, Cincinnati, OH.

TA-W-58,128E; Northwest Airlines, Honolulu Airport, Honolulu, HI.

TA-W-58,128EE; Northwest Airlines, General Mitchell Airport, Milwaukee, WI.

TA-W-58,128F; Northwest Airlines, Minneapolis/St. Paul International Airport, Minneapolis, MN.

TA-W-58,128FF; Northwest Airlines, Hartsfield-Jackson Airport, Atlanta, GA.

TA-W-58,128G; Northwest Airlines, Duluth International Airport, Duluth, MN.

TA-W-58,128GG; Northwest Airlines, Memphis International Airport, Memphis, TN.

TA-W-58,128H; Northwest Airlines, Sky Harbor Airport, Phoenix, AZ.

TA-W-58,128HH; Northwest Airlines, New Orleans Airport, New Orleans, LA.

TA-W-58,128I; Northwest Airlines, San Francisco International Airport, San Francisco, CA.

TA-W-58,128J; Northwest Airlines, Seattle/Tacoma International Airport, Seattle, WA.

TA-W-58,128K; Northwest Airlines, Portland International Airport, Portland, OR.

TA-W-58,128L; Northwest Airlines, Newark International Airport, Newark, NJ.

TA-W-58,128M; Northwest Airlines, John F. Kennedy International Airport, New York, NY.

TA-W-58,128N; Northwest Airlines, La Guardia Airport, New York, NY.

TA-W-58,128O; Northwest Airlines, Philadelphia International Airport, Philadelphia, PA.

TA-W-58,128P; Northwest Airlines, Port Columbus International Airport, Columbus, OH.

TA-W-58,128Q; Northwest Airlines, Logan International Airport, Boston, MA.

TA-W-58,128R; Northwest Airlines, Detroit/Wayne County Airport, Detroit, MI.

TA-W-58,128S; Northwest Airlines, Kansas City International Airport, Kansas City, KS.

TA-W-58,128T; Northwest Airlines, Dallas-Ft. Worth International Airport, Dallas/Ft. Worth, TX.

TA-W-58,128U; Northwest Airlines, Ronald Reagan National Airport, Washington, DC.

TA-W-58,128V; Northwest Airlines, Dulles International Airport, Dulles, VA.

TA-W-58,128W; Northwest Airlines, Orlando International Airport, Orlando, FL.

TA-W-58,128X; Northwest Airlines, Miami International Airport, Miami, FL.

TA-W-58,128Y; Northwest Airlines, Indianapolis International Airport, Indianapolis, IN.

TA-W-58,128Z; Northwest Airlines, O'Hare International Airport, Chicago, IL.

TA-W-58,154; Hewlett-Packard, Nashua, NH.

TA-W-58,2TA-W-58,; ATA Airlines, Inc., Chicago Reservation Center, Chicago, IL.

The investigation revealed that criteria (2) has not been met. The workers firm (or subdivision) is not a supplier or downstream producer to trade-affected companies.

None.

Affirmative Determinations for Alternative Trade Ajdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-58,104; Tecstar, dba MGS Mfg. Group (The), On-Site Leased Workers, Germantown, WI, September 10, 2004.

TA-W-58,357; JB Britches, Inc., San Fernando, CA, November 4, 2004.

TA-W-57,896; Cranford Woodcarving, Inc., A Subsidiary of McCrorie Group, Plants 1, 4 and 7, On-Site Leased Workers of Express, Hickory, NC, September 2, 2004.

TA-W-58,120; Bangor Mills, Inc., Stroudsburg, PA, October 7, 2004.

TA-W-58,215; Bespak, Inc., Apex, NC, October 25, 2004.

TA-W-58,121; Computernet, Inc., aka Computernet Resource Group, On-Site at Burlington Industries, Hurt, VA, October 10, 2004.

TA-W-58,121A; Computernet, Inc., aka Computernet Resource Group, On-Site at Burlington Industries, Greensboro, NC, October 10, 2004.

TA-W-58,131; Quality Oak Products, Inc., Including On-Site Leased Workers of Labor Specialists, Noble, IL, October 6, 2004.

TA-W-58,145; General Cable, A Subsidiary of General Cable Technologies Corp., Dayville, CT, October 17, 2004.

TA-W-58,181; Stimson Lumber Company, Atlas Division, Coeur d' Alene, ID, October 20, 2004.

TA-W-58,256; T-Time Sportswear, Inc., Hazleton, PA, October 24, 2004.

TA-W-58,133; Joan Fabrics Corporation, Mastercraft Fabrics LLC, Norwood Yarn Sales, Norwood, NC, October 21, 2005.

TA-W-58,133A; Joan Fabrics Corporation, Mastercraft Fabrics LLC, Norwood Yarn Sales, Troy, NC, October 21, 2005.

TA-W-58,184; Georgia-Pacific Corporation, Consumer Products Division, Green Bay, WI, October 12, 2004.

TA-W-58,190; Meridian Automotive Systems, Inc., Company 21, Grand Rapids, MI, October 21, 2004.

TA-W-58,205; Berliss Bearing Co., Livingston, NJ, September 27, 2004.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,137; BNZ Materials, Inc., Zelienople, PA.

TA-W-58,268; Simpson Door Company, McCleary Washington Division, McCleary, WA.

TA-W-58,180; Ensign-Bickford Company (The), Trojan Explosives Plant, Booster—Utah Division, Spanish Fork, UT.

TA-W-58,112; IMC Products, Inc., Muskegon, MI.

TA-W-58,135; Snap-Tite Hose, Inc., National Fire Hose Plant, Compton, CA.

TA-W-58,121B; Computernet, Inc., aka Computernet Resource Group, On-Site at Burlington Industries, Stonewall, MS.

TA-W-58,127; Alaska Airlines, Inc., Seattle/Tacoma International Airport, Aircraft Mechanics Department, Seattle, WA.

TA-W-58,127A; Alaska Airlines, Inc., Anchorage International Airport, Aircraft Mechanics Department, Anchorage, AK.

TA-W-58,127B; Alaska Airlines, Inc., Metropolitan Oakland International Airport, Aircraft Mechanics Department, Oakland, CA.

TA-W-58,127C; Alaska Airlines, Inc., San Francisco International Airport, Aircraft Mechanics Department, San Francisco, CA.

TA-W-58,127D; Alaska Airlines, Inc., Los Angeles International Airport, Aircraft Mechanics Department, Los Angeles, CA.

TA-W-58,127E; Alaska Airlines, Inc., Juneau International Airport, Aircraft Mechanics Department, Juneau, AK.

TA-W-58,127F; Alaska Airlines, Inc., Grant County International Airport, Aircraft Mechanics Department, Moses Lake, WA.

TA-W-58,127G; Alaska Airlines, Inc., Snohomish County International Airport, Aircraft Mechanics Department, Everett, WA.

TA-W-58,127H; Alaska Airlines, Inc., Will Rogers World Airport, Aircraft Mechanics Department, Oklahoma City, OK.

TA-W-58,127I; Alaska Airlines, Inc., Wiley Post/W. Rogers M. Airport, Aircraft Mechanics Department, Barrow, AK.

TA-W-58,127J; Alaska Airlines, Inc., Fairbanks International Airport, Aircraft Mechanics Department, Fairbanks, AK.

TA-W-58,127K; Alaska Airlines, Inc., Ketchikan International Airport, Aircraft Mechanics Department, Ketchikan, AK.

TA-W-58,127L; Alaska Airlines, Inc., Nome Airport, Aircraft Mechanics Department, Nome, AK.

TA-W-58,127M; Alaska Airlines, Inc., Kotzebue Airport, Aircraft Mechanics Department, Kotzebue, AK.

TA-W-58,127N; Alaska Airlines, Inc., Prudhoe Bay/Deadhorse Airport, Aircraft Mechanics Department, Prudhoe Bay, AK.

TA-W-58,127O; Alaska Airlines, Inc., Sitka Airport, Aircraft Mechanics Department, Stika, AK.

TA-W-58,127P; Alaska Airlines, Inc., Portland International Airport, Aircraft Mechanics Department, Portland, OR.

TA-W-58,127Q; Alaska Airlines, Inc., Phoenix Sky Harbor International Airport, Aircraft Mechanics Department, Phoenix, AZ.

TA-W-58,128; Northwest Airlines, Technical Operations, Facilities Maintenance, and Ground Operations Division, St. Paul, MN.

TA-W-58,128A; Northwest Airlines, Los Angeles International Airport, Los Angeles, CA.

TA-W-58,128AA; Northwest Airlines, George Bush Intercontinental Airport, Huston, TX.

TA-W-58,128B; Northwest Airlines, San Diego/Lindberg Field International Airport, San Diego, CA.

TA-W-58,128BB; Northwest Airlines, Tampa/St. Petersburg International Airport, Tampa, FL.

TA-W-58,128C; Northwest Airlines, Billings Airport, Billings, MT.

TA-W-58,128CC; Northwest Airlines, McCarran International Airport, Las Vegas, NV.

TA-W-58,128D; Northwest Airlines, Anchorage International Airport, Anchorage, AK.

TA-W-58,128DD; Northwest Airlines, Northern Kentucky Airport, Cincinnati, OH.

TA-W-58,128E; Northwest Airlines, Honolulu Airport, Honolulu, HI.

TA-W-58,128EE; Northwest Airlines, General Mitchell Airport, Milwaukee, WI.

TA-W-58,128F; Northwest Airlines, Minneapolis/St. Paul International Airport, Minneapolis, MN.

TA-W-58,128FF; Northwest Airlines, Hartsfield-Jackson Airport, Atlanta, GA.

TA-W-58,128G; Northwest Airlines, Duluth International Airport, Duluth, MN.

TA-W-58,128GG; Northwest Airlines, Memphis International Airport, Memphis, TN.

TA-W-58,128H; Northwest Airlines, Sky Harbor Airport, Phoenix, AZ.

TA-W-58,128HH; Northwest Airlines, New Orleans Airport, New Orleans, LA.

TA-W-58,128I; Northwest Airlines, San Francisco International Airport, San Francisco, CA.

TA-W-58,128J; Northwest Airlines, Seattle/Tacoma International Airport, Seattle, WA.

TA-W-58,128K; Northwest Airlines, Portland International Airport, Portland, OR.

TA-W-58,128L; Northwest Airlines, Newark International Airport, Newark, NJ.

TA-W-58,128M; Northwest Airlines, John F. Kennedy International Airport, New York, NY.

TA-W-58,128N; Northwest Airlines, La Guardia Airport, New York, NY.

TA-W-58,128O; Northwest Airlines, Philadelphia International Airport, Philadelphia, PA.

TA-W-58,128P; Northwest Airlines, Port Columbus International Airport, Columbus, OH.

TA-W-58,128Q; Northwest Airlines, Logan International Airport, Boston, MA.

TA-W-58,128R; Northwest Airlines, Detroit/Wayne County Airport, Detroit, MI.

TA-W-58,128S; Northwest Airlines, Kansas City International Airport, Kansas City, KS.

TA-W-58,128T; Northwest Airlines, Dallas-Ft. Worth International Airport, Dallas/Ft. Worth, TX.

TA-W-58,128U; Northwest Airlines, Ronald Reagan National Airport, Washington, DC.

TA-W-58,128V; Northwest Airlines, Dulles International Airport, Dulles, VA.

TA-W-58,128W; Northwest Airlines, Orlando International Airport, Orlando, FL.

TA-W-58,128X; Northwest Airlines, Miami International Airport, Miami, FL.

TA-W-58,128Y; Northwest Airlines, Indianapolis International Airport, Indianapolis, IN.

TA-W-58,128Z; Northwest Airlines, O'Hare International Airport, Chicago, IL.

TA-W-58,154; Hewlett-Packard, Nashua, NH.

TA-W-58,258; ATA Airlines, Inc., Chicago Reservation Center, Chicago, IL.

TA-W-58,321; McKeehan Hosiery Mill, Inc., A Subsidiary of Prewett Mills Distribution Center, Fort Payne, AL.

The Department has determined that criterion (1) of Section 246 has not been met. Workers at the firm are 50 years of age or older.

None.

The Department has determined that criterion (2) of Section 246 has not been met. Workers at the firm possess skills that are easily transferable.

None.

The Department has determined that criterion (3) of Section 246 has not been met. Competition conditions within the workers' industry are not adverse.

None.

I hereby certify that the aforementioned determinations were issued during the month of November 2005. Copies of These determinations are available for inspection in Room C-5311, U.S. Department of Labor, 200 Constitution Avenue, NW., Washington, DC 20210 during normal business hours or will be mailed to persons who write to the above address.

Dated: December 7, 2005.
Erica R. Cantor,
Director, Division of Trade Adjustment Assistance.

[FR Doc. E5-7380 Filed 12-14-05; 8:45 am]

BILLING CODE 4510-30-P